DEPARTMENT OF TRANSPORTATION

14 CFR Part 71

[Airspace Docket No. 00-AGL-24]

Modification of Class E Airspace; Youngstown-Warren Regional Airport, OH; Correction

AGENCY: Federal Aviation Administration (FAA), DOT.

ACTION: Final rule; correction.

SUMMARY: This action corrects an error in the SUMMARY of a Final Rule that was published in the Federal Register on Friday, January 4, 2002 (67 FR 517), Airspace Docket No. 00-AGL-24. The Final Rule modified Class E Airspace at Youngstown-Warren Regional Airport, OH.

EFFECTIVE DATE: 0901 UTC, February 21, 2002.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register document 02-258, Airspace Docket No. 00-AGL-24, published on January 4, 2002 (67 FR 517), modified class E Airspace at Youngstown-Warren Regional Airport, OH. An error in the SUMMARY for the Class E airspace for Youngstown-Warren Regional Airport, OH, was published. This action corrects that error.

Correction to Final Rule

Accordingly, pursuant to the authority delegated to me, the SUMMARY for the Class E airspace, Youngstown-Warren Regional Airport, OH, as published in the Federal Register January 4, 2002 (67 FR 517), (FR Doc. 02-258), is corrected as follows:

On page 517, column 1, second sentence of the SUMMARY, remove the words “to Runway 26”.

Issued in Des Plaines, Illinois on January 25, 2002.
Nancy B. Shelton,
Manager, Air Traffic Division, Great Lakes Region.

[FR Doc. 02-5116 Filed 3-8-02; 8:45 am]

BILLING CODE 4910-13-M